DEPARTMENT OF JUSTICE

Notice of Lodging of Proposed Consent Decree With Hoosier Energy Rural Electric Cooperative, Inc. Under The Clean Air Act

Pursuant to 28 CFR 50.7, notice is hereby given that on July 23, 2010, a proposed Consent Decree in United States of America et al. v. Hoosier Energy Rural Electric Cooperative, Inc., (“Hoosier”), Civil Action No. 1:10-cv-0935-LJM-TAB, was lodged with the United States District Court for the Southern District of Indiana.

In this civil enforcement action under the federal Clean Air Act (“Act”), the United States and the State of Indiana allege that Hoosier—an electric utility—failed to comply with certain requirements of the Act intended to protect air quality. The complaint alleges that Hoosier violated the Prevention of Significant Deterioration (“PSD”) and Title V provisions of the Act, 42 U.S.C. 7401-7671 et seq., and related state and federal implementing regulations, at the Merom Generating Station, a coal-fired power plant in Sullivan County, Indiana. The alleged violations arise from the construction of modifications at the power plant and operation of the plant in violation of PSD and Title V requirements. The complaint alleges that Hoosier failed to obtain appropriate permits and failed to install and apply required pollution control devices to reduce emissions of various air pollutants. The complaint seeks both injunctive relief and civil penalties.

The proposed Decree lodged with the Court addresses the Merom Station as well as Hoosier's Ratts Generating Station, a coal-fired power plant located in Pike County, Indiana. The proposed Decree requires installation, upgrading, and operation of certain pollution control devices at the Merom and Ratts plants on a schedule running through 2013. The settlement will reduce emissions of sulfur dioxide (“SO2”), nitrogen oxides (“NOX”), particular matter (“PM”), and sulfuric acid mist through emission control requirements and limitations specified by the proposed Decree. Hoosier will also fund environmental projects at a cost of at least $5 million to mitigate the alleged adverse effects of its past violations, and will pay a civil penalty of $950,00.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Hoosier Energy Rural Electric Cooperative, Inc., D.J. Ref. 90-5-2-1-09864.

The Consent Decree may be examined at the Office of the United States Attorney for the Southern District of Indiana, located at 10 W. Market Street, Suite 2100, Indianapolis, Indiana 46204; or at U.S. EPA Region 5, 77 W. Jackson Blvd., Chicago, Illinois 60604-4590. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $22.00 (25 cents per page reproduction cost) payable to the U.S. Treasury.

Maureen Katz,
Assistant Chief, Environmental Enforcement Section, Environment and Natural Resources Division.

[FR Doc. 2010-19362 Filed 8-5-10; 8:45 am]

BILLING CODE 4410-15-P